DEPARTMENT OF EDUCATION

[Docket No.: ED-2023-SCC-0010]

Agency Information Collection Activities; Submission to the Office of Management and Budget for Review and Approval; Comment Request; Rehabilitation Services Administration (RSA) Payback Information Management System

AGENCY: Office of Special Education and Rehabilitative Services (OSERS), Department of Education (ED).

ACTION: Notice

SUMMARY: In accordance with the Paperwork Reduction Act (PRA) of 1995, the Department is proposing a revision of a currently approved information collection request (ICR).

DATES: Interested persons are invited to submit comments on or before May 12, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Karen Holliday, (202) 245-7318.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Rehabilitation Services Administration (RSA) Payback Information Management System.

OMB Control Number: 1820-0617.

Type of Review: Revision of a currently approved ICR.

Respondents/Affected Public: State, local, and Tribal governments; individuals or households; private sector.

Total Estimated Number of Annual Responses: 12,026.

Total Estimated Number of Annual Burden Hours: 4,906.

Abstract: Public Law 114-95, section 302 (b) of the Rehabilitation Act of 1973, as amended by the Workforce Innovation and Opportunity Act (WIOA), the Rehabilitation Services Administration (RSA) provides Long-Term Training grants to academic institutions to support scholarship assistance to students. Students who receive scholarships under this program are required to work within the public rehabilitation program, such as with a state vocational rehabilitation agency, or an agency or organization that has a service arrangement with a state vocational rehabilitation agency. The student is expected to work two years in such settings for every year of full-time scholarship support. The program regulations at 34 CFR 386.33-386.35 and 386.40-386.43 detail the payback provisions and the RSA scholars' requirements to comply with them.

Section 302 (b)(2)(C) of the Act requires tracking of scholars' employment status and location of former scholars supported under the grants in order to ensure that students are meeting the payback requirement. Scholars must provide requested information necessary to meet the exit certification requirements.

In addition to meeting the requirement that all scholars be tracked, the information collected will provide performance data relevant to the rehabilitation fields and degrees pursued by RSA scholars, as well as the funds owed and the rehabilitation work completed by them.

In summary, RSA is requesting a revision of the currently approved collection by adding a section titled State Vocational Rehabilitation (VR) Agency: RSA Job Board Posting, where RSA envisions State VR agencies may initiate posting of an open position on the RSA Job Board on a rolling basis as positions become available. This addition to the current collection will be a helpful resource to students who receive RSA support, graduate, and seek qualifying employment to fulfill their required service obligation. This collection package adds the participation of State VR agencies to the existing approved ICR. Job leads will be submitted electronically through the online RSA Payback Information Management System (PIMS). There is minimal estimated burden required to report job information using the PIMS system.

Dated: April 6, 2023.
Juliana Pearson,
PRA Coordinator, Strategic Collections and Clearance, Governance and Strategy Division, Office of Chief Data Officer, Office of Planning, Evaluation and Policy Development.

[FR Doc. 2023-07620 Filed 4-11-23; 8:45 am]

BILLING CODE 4000-01-P